DEPARTMENT OF LABOR

Employment and Training Administration

[TA-W-74,325]

Exxonmobil Chemical Company Films Business Division Including on-Site Leased Workers From Manpower, RCG-IT and Genesis Macedon, NY; Amended Certification Regarding Eligibility To Apply for Worker Adjustment Assistance

In accordance with Section 223 of the Trade Act of 1974, as amended (“Act”), 19 U.S.C. 2273, the Department of Labor issued a Certification of Eligibility to Apply for Worker Adjustment Assistance on October 8, 2010, applicable to ExxonMobil Chemical Company, Films Business Division, including on-site leased workers from Manpower, Macedon, New York. The workers provide customer support services. The notice was published in the Federal Register on October 25, 2010 (75 FR 65520).

At the request of the New York State agency, the Department reviewed the certification for workers of the subject firm. The company reports that workers leased from RCG-IT and Genesis were employed on-site at the Macedon, New York location of ExxonMobil Chemical Company, Films Business Division. The Department has determined that these workers were sufficiently under the control of ExxonMobil Chemical Company, Films Business Division, Macedon, New York to be considered leased workers.

Based on these findings, the Department is amending this certification to include workers leased from RCG-IT and Genesis working on-site at the Macedon, New York location of ExxonMobil Chemical Company, Films Business Division.

The amended notice applicable to TA-W-74,325 is hereby issued as follows:

All workers of ExxonMobil Chemical Company, Films Business Division, including on-site leased workers from Manpower, RCG-IT and Genesis, Macedon, New York, who became totally or partially separated from employment on or after June 25, 2009, through October 8, 2012, and all workers in the group threatened with total or partial separation from employment on the date of certification through two years from the date of certification, are eligible to apply for adjustment assistance under Chapter 2 of Title II of the Trade Act of 1974, as amended.

The amended notice applicable to TA-W-75,252A is hereby issued as follows:

All leased workers from The Hamilton-Ryker Group LLC, Securitas Security Services, Take Care Corporation, Conestoga Rovers and Associates, Phillips Engineering, Rockwell Engineering, Excel Logistics, and American Food and Vending, Calhoun Spotting Service, and Job World working on-site at The Goodyear Tire and Rubber Company, North American Tire, Union City, Tennessee (TA-W-75,252A), who became totally or partially separated from employment on or after February 10, 2010, through April 6, 2013, and all workers in the group threatened with total or partial separation from employment on the date of certification through two years from the date of certification, are eligible to apply for adjustment assistance under Chapter 2 of Title II of the Trade Act of 1974, as amended.

Signed at Washington, DC this 23rd day of February 2012.
Michael W. Jaffe,
Certifying Officer, Office of Trade Adjustment Assistance.

[FR Doc. 2012-5395 Filed 3-5-12; 8:45 am]

BILLING CODE 4510-FN-P